DEPARTMENT OF HEALTH AND HUMAN SERVICES

Administration for Community Living

Agency Information Collection Activities: Proposed Collection; Public Comment Request; of the Analysis of Senior Medicare Patrol Grantees' Program Implementation OMB Control Number 0985-New

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This Information Collection (IC) solicits comments on the information collection requirements relating to the Analysis of Senior Medicare Patrol Grantees' Program Implementation.

DATES: Comments on the collection of information must be submitted electronically by 11:59 p.m. (EST) or postmarked by February 21, 2023.

ADDRESSES: Submit electronic comments on the collection of information to: Kristen Robinson, Kristen.Robinson@acl.hhs.gov, 202-795-7428. Submit written comments on the collection of information to Administration for Community Living, 330 C Street SW, Washington, DC 20201, Attention: Kristen Robinson.

FOR FURTHER INFORMATION CONTACT: Kristen Robinson, Kristen.Robinson@acl.hhs.gov, 202-795-7428.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

Under ACL's Office of Healthcare Information and Counseling, the Senior Medicare Patrol (SMP) programs recruit and train a national network of staff and volunteers to help “prevent, detect, and report Medicare fraud, errors, and abuse.” ¹ The SMP supports programs in every state, the District of Columbia, and in U.S. territories through grants. Additionally, the SMP Resource Center, established in 2003, assists SMP grantees in networking and provides tools, training, and technical assistance to SMPs. To promote and advance equity in its programming, ACL is conducting interviews with SMP program directors or their designee to better understand their activities and their experiences in program implementation and in reaching low-income and rural Medicare beneficiaries.

¹ Administration for Community Living. (2022, November 8). Senior Medicare Patrol (SMP). Available at https://acl.gov/programs/protecting-rights-and-preventing-abuse/senior-medicare-patrol-smp.

Specifically, this IC will allow ACL to understand (1) how SMP grantees conceive of program priorities; (2) successes and challenges SMP grantees experience in implementing activities and in reaching low-income and rural Medicare beneficiaries; and (3) which programs need clarification on programmatic priority expectations or additional support to conduct their activities.

Up to 54 SMP grantee representatives and one SMP Resource Center representative will be invited to participate in a 75-minute web-based interview. Findings from the interviews will inform ACL's strategy to support SMP grantees in achieving program priorities and to promote equitable access to SMP activities for low-income and rural Medicare beneficiaries.

The proposed data collection tools may be found on the ACL website for review at https://www.acl.gov/about-acl/public-input.

Estimated Program Burden: ACL estimates the burden of this collection of information as follows:

A maximum of 54 SMP grantee project directors or their designees and one representative from the SMP Resource Center are expected to participate in interviews over videoconferencing. The approximate burden for participation in interviews is 1.25 hours per respondent for a total estimate of 68.75 hours.

Respondent/data collection activity | Number of respondents | Responses per respondent | Hours per response | Annual burden hours
Interviews with grantees | 55 | 1 | 1.25 | 68.75
Total | 55 | 1 | 1.25 | 68.75

Dated: December 14, 2022.
Alison Barkoff,
Acting Administrator and Assistant Secretary for Aging.

[FR Doc. 2022-27513 Filed 12-19-22; 8:45 am]

BILLING CODE 4154-01-P